DEPARTMENT OF JUSTICE

Antitrust Division

Notice Pursuant to the National Cooperative Research and Production Act of 1993—Open Core Protocol International Partnership Association, Inc.

Notice is hereby given that, on July 8, 2002, pursuant to section 6(a) of the National Cooperative Research and Production Act of 1993, 15 U.S.C. 4301 et seq. (“the Act”), OCP International Partnership Association, Inc. (“OCP-IP”) has filed written notifications simultaneously with the Attorney General and the Federal Trade Commission disclosing changes in its membership status. The notifications were filed for the purpose of extending the Act's provisions limiting the recovery of antitrust plaintiffs to actual damages under specified circumstances. Specifically, 3rdeye Technology, Washington, DC; e-ASIC, San Jose, CA; Semiconductor Technology Academic Research Center (“STARC”), Yokohama, JAPAN; Qualis, Inc., Lake Oswego, OR; GeoLogic Design, LLP, Redwood City, CA; and Mentor Graphics, San Jose, CA have been added as parties to this venture.

No other changes have been made in either the membership or planned activity of the group research project. Membership in this group research project remains open, and OCP-IP intends to file additional written notification disclosing all changes in membership.

On May 10, 2002, OCP-IP filed its original notification pursuant to section 6(a) of the Act. The Department of Justice published a notice in the Federal Register pursuant to section 6(b) of the Act on June 18, 2002 (67 FR 41483).

Constance K. Robinson,
Director of Operations, Antitrust Division.

[FR Doc. 02-20140 Filed 8-8-02; 8:45 am]

BILLING CODE 4410-11-M